NEIGHBORHOOD REINVESTMENT CORPORATION

Sunshine Act Meeting, Corporate Administration Committee Meeting of the Board of Directors

TIME & DATE: 3:30 p.m., Thursday, November 21, 2013.

PLACE: NeighborWorks America—Gramlich Boardroom, 999 North Capitol Street, NE., Washington DC 20002.

STATUS: Open.

CONTACT PERSON: Jeffrey Bryson, General Counsel/Secretary, (202) 760-4101; jbryson@nw.org.

AGENDA

I. Call To Order

II. Officer Performance Reviews

III. Update on Structure

IV. Human Resources

A. RFP—Board Appointee Compensation

B. Employee Performance Management

C. Health Care Provider/Open Enrollment

D. EEO Report

E. Retirement Plan Audit

V. Adjournment

Jeffrey T. Bryson,
General Counsel.

[FR Doc. 2013-27252 Filed 11-8-13; 4:15 pm]

BILLING CODE 7570-02-P